DEPARTMENT OF ENERGY

Federal Energy Regulatory Commission

[Docket No. AD05-3-000]

Promoting Regional Transmission Planning and Expansion To Facilitate Fuel Diversity Including Expanded Uses of Coal-Fired Resources; Notice of Technical Conference

February 16, 2005.

Take notice that the Federal Energy Regulatory Commission will host a technical conference on Friday, May 13, 2005, to identify regional solutions to promoting regional transmission planning, expansion and enhancement to facilitate fuel diversity including increased integration of coal-fired resources to the transmission grid. The technical conference will be held at the Charleston Marriott Town Center, 200 Lee Street East, Charleston, West Virginia, 25301. The technical conference is scheduled to begin at 9 a.m. and end at approximately 5 p.m. (e.s.t.). The Commissioners will attend and participate.

The goal of the technical conference is to explore possible policy changes that would better accommodate, in particular, the increased participation of coal-fired energy in wholesale markets.¹ Topics may include:

¹ The Commission has held one conference accommodating intermittent resources, including wind, and will be holding additional related conferences for those resources, such as the upcoming workshop being held in Portland, Oregon.

• What are the experiences learned from the existing regional planning practices in the existing RTOs and ISOs, such as PJM and MISO, or other regional bodies such as the Rocky Mountain Area Transmission Study working group?

• What transmission infrastructure investments are needed to integrate new resources, including coal-fired, and what barriers stand in the way of getting them built?

• What actions can the Commission take to assist in intra- and inter-regional planning processes?

• What regional planning mechanisms, such as joint development of diverse resources at remote sites, or planning bodies can be created to promote fuel diversity, including the expansion of coal-fired resources?

• What reliability considerations inhibit or promote the expansion of transmission facilities to reach coal plants?

An agenda will be published at a later time.

Although registration is not a strict requirement, in-person attendees are asked to register for the conference on-line by close of business on May 10, 2005, at http://www.ferc.gov/whats-new/registration/coal-05-13-form.asp.

Transcripts of the conference will be immediately available from Ace Reporting Company (202-347-3700 or 1-800-336-6646) for a fee. They will be available for the public on the Commission's eLibrary system seven calendar days after FERC receives the transcript. Additionally, Capitol Connection offers the opportunity for remote listening of the conference via the Internet or a Phone Bridge Connection for a fee. Interested persons should make arrangements as soon as possible by visiting the Capitol Connection Web site at http://www.capitolconnection.gmu.edu and clicking on “FERC.” If you have any questions contact David Reininger or Julia Morelli at the Capitol Connection (703-993-3100).

For more information about the conference, please contact Sarah McKinley at 202-502-8004, sarah.mckinley@ferc.gov.

Magalie R. Salas,
Secretary.

[FR Doc. E5-718 Filed 2-22-05; 8:45 am]

BILLING CODE 6717-01-P